FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in the BHC Act (12 U.S.C. 1842(c)). If the proposal also involves the acquisition or retention of a nonbanking company, the review also includes whether the nonbanking activity complies with the standards in section 4 of the BHC Act (12 U.S.C. 1843), and interested persons may express their views in writing on the standards enumerated in section 4. Unless otherwise noted, nonbanking activities will be conducted throughout the United States.

Comments regarding each of these applications must be received at the Reserve Bank indicated or the offices of the Board of Governors, Ann E. Misback, Secretary of the Board, 20th Street and Constitution Avenue NW, Washington, DC 20551-0001, not later than December 28, 2023.

A. Federal Reserve Bank of Atlanta (Erien O. Terry, Assistant Vice President) 1000 Peachtree Street, NE, Atlanta, Georgia 30309. Comments can also be sent electronically to Applications.Comments@atl.frb.org.

1. Gulf Atlantic Financial Corporation, Tallahassee, Florida; to become a bank holding company by acquiring of Gulf Atlantic Bank, Key West, Florida.

B. Federal Reserve Bank of Dallas (Karen Smith, Director, Mergers & Acquisitions) 2200 N Pearl Street, Dallas, Texas 75201-2272. Comments can also be sent electronically to Comments.applications@dal.frb.org.

1. The Adam Corporation/Group and TAC Financial Corporation, both of College Station, Texas; to become bank holding companies by acquiring Adam Bank Group, Inc., and thereby indirectly acquiring American Momentum Bank, both of College Station, Texas.

In addition, The Adam Corporation/Group and TAC Financial Corporation, to engage in agency transactional services for customer investments pursuant to section 225.28(b)(7) of the Board's Regulation Y through its subsidiary Globetech Securities, LLC, Clifton Park, New York.

C. Federal Reserve Bank of Cleveland (Nadine M. Wallman, Vice President) 1455 East Sixth Street, Cleveland, Ohio 44101-2566. Comments can also be sent electronically to Comments.applications@clev.frb.org.

1. Nextier, Inc., Kittanning, Pennsylvania; to acquire Mars Bancorp, Inc., and thereby indirectly acquire Mars Bank, both of Mars, Pennsylvania.

Board of Governors of the Federal Reserve System.
Yao-Chin Chao,
Deputy Associate Secretary of the Board.

[FR Doc. 2023-26197 Filed 11-27-23; 8:45 am]

BILLING CODE P